DEPARTMENT OF THE INTERIOR

Bureau of Land Management

[OR-930-1220-PA; HAG-04-0236]

Final Supplementary Rules on Public Land in Oregon and Washington

AGENCY: Bureau of Land Management, Interior.

ACTION: Final supplementary rules.

SUMMARY: The Bureau of Land Management (BLM) Oregon State Office is implementing supplementary rules for public lands within the states of Oregon and Washington. The rules are needed in order to protect the area's natural resources and provide for public health and safety. The rules are based on existing regulations and address camping and residency, vehicles and off-road vehicles, fire, conduct, firearms, sanitation and refuse and permits. The supplementary rules promote consistency between BLM rules on these topics and similar rules of other natural resource agencies including the U.S. Forest Service, National Park Service, Oregon Parks and Recreation, and the Washington Department of Natural Resources.

DATES: The rules are effective August 18, 2005.

ADDRESSES: You may submit suggestions or inquiries to Recreation Program, Bureau of Land Management, Oregon State Office, P.O. Box 2965, Portland, Oregon, 97204, or via Internet e-mail to: http://www.or_Final_rule@blm.gov (Include Attn: Margaret Wolf).

FOR FURTHER INFORMATION CONTACT: Margaret Wolf, Oregon State Office, P.O. Box 2965, Portland, Oregon, telephone (503) 808-6061. Persons who use a telecommunications device for the deaf (TDD) may contact this individual by calling the Federal Information Relay Service (FIRS) at (800) 877-8339, 24 hours a day, 7 days a week.

SUPPLEMENTARY INFORMATION:

I. Background

II. Discussion of Comments

III. Procedural Matters

I. Background

BLM proposed these supplementary rules in order to promote consistency between BLM (on issues of camping and occupancy, vehicles and off-road vehicles, fire, conduct, firearms, sanitation and refuse) and other land management agencies including the U.S. Forest Service, National Park Service, Oregon State Parks and Recreation, and the Washington Department of Natural Resources. These supplementary rules will apply to the public lands within the states of Oregon and Washington. These rules are necessary to protect the area's natural resources and to provide for the public's health and safety, provide needed guidance in the areas of camping, occupancy, and recreation, and allow for the assessment of penalties that are more commensurate with the level of the prohibited acts.

The State of Oregon recently revised its requirement for ORV registration, placing the burden of requiring registration on each land owner. Supplementary rule b.5 (below) makes ORV registration a requirement on public lands, as endorsed by the Oregon Parks and Recreation Department.

II. Discussion of Comments

These rules were published as proposed supplementary rules on February 25, 2005 in the Federal Register, (70 FR 9380-9384). Comments were solicited in that publication and could be submitted by mail, electronic means, or by telephone.

No comments were received by e-mail, TDD, written submissions, or by telephone. Therefore, we are publishing the final supplementary rules as proposed, with the exception of editorial changes made for purposes of clarity.

III. Procedural Matters

Executive Order 12866, Regulatory Planning and Review

These final supplementary rules are not a significant regulatory action and are not subject to review by Office of Management and Budget under Executive Order 12866. These final supplementary rules will not have an effect of $100 million or more on the economy. They will not adversely affect in a material way the economy, productivity, competition, jobs, the environment, public health or safety, or State, local, or tribal governments or communities. These final supplementary rules will not create a serious inconsistency or otherwise interfere with an action taken or planned by another agency.

These final supplementary rules do not alter the budgetary effects of entitlements, grants, user fees, or loan programs or the rights or obligations of their recipients; nor do they raise novel legal or policy issues. They merely impose rules of conduct and impose other limitations on certain recreational activities on certain public lands to protect natural resources and human health and safety.

National Environmental Policy Act

BLM has prepared an environmental assessment (EA) and has found that the final supplementary rules would not constitute a major Federal action significantly affecting the quality of the human environment under section 102(2)(C) of the Environmental Protection Act of 1969 (NEPA), 42 U.S.C. 4332(2)(C). A detailed statement under NEPA is not required. BLM has placed the EA and the Finding of No Significant Impact (FONSI) on file in the BLM Administrative Record at the address specified in the ADDRESSES section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These final supplementary rules should have no effect on business entities of whatever size. They merely would impose reasonable restrictions on certain recreational activities on certain public lands to protect natural resources and the environment, and human health and safety. Therefore, BLM has determined under the RFA that these final supplementary rules would not have a significant economic impact on a substantial number of small entities.

Small Business Regulatory Enforcement Fairness Act (SBREFA)

These final supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain recreational activities on certain public lands to protect natural resources and the environment, and human health and safety.

Unfunded Mandates Reform Act

These final supplementary rules do not impose an unfunded mandate on State, local, or tribal governments or the private sector of more than $100 million per year; nor do these Final supplementary rules have a significant or unique effect on State, local, or tribal governments or the private sector. They would merely impose reasonable restrictions on certain recreational activities on certain public lands to protect natural resources and the environment, and human health and safety. They also specifically call for compliance with State laws and regulations. Therefore, BLM is not required to prepare a statement containing the information required by the Unfunded Mandates Reform Act (2 U.S.C. 1531 et seq.)

Executive Order 12630, Governmental Actions and Interference With Constitutionally Protected Property Rights

The final supplementary rules do not represent a government action capable of interfering with Constitutionally protected property rights. Therefore, the Department of the Interior has determined that the rule would not cause a taking of private property or require preparation of a takings assessment under this Executive Order.

Executive Order 13132, Federalism

These final supplementary rules would not have a substantial direct effect on the States, on the relationship between the National Government and the States, or on the distribution of power and responsibilities among the various levels of government. These final supplementary rules in several instances call for compliance with State law. Therefore, in accordance with Executive Order 13132, BLM has determined that these final supplementary rules do not have sufficient Federalism implications to warrant preparation of a Federalism Assessment.

Executive Order 12988, Civil Justice Reform

Under Executive Order 12988, the Office of the Solicitor has determined that this final rule would not unduly burden the judicial system and that it meets the requirements of sections 3(a) and 3(b)(2) of the Order.

Executive Order 13175, Consultation and Coordination With Indian Tribal

In accordance with Executive Order 13175, we have found that these final supplementary rules do not include policies that have tribal implications.

Paperwork Reduction Act

These final rules do not contain information collection requirements that the Office of Management and Budget must approve under the Paperwork Reduction Act of 1995, 44 U.S.C. 3501 et seq.

Author

The principal author of these supplementary rules is Margaret Wolf, Oregon State Office, P.O. Box 2965, Portland, Oregon.

For the reasons stated in the preamble and under the authorities for supplementary rules found under 43 CFR 8365.1-6, 43 CFR 8364.1, 43 U.S.C. 1740, 16 U.S.C. 670h(c)(5), and 43 U.S.C. 315a, the Oregon/Washington State Director, Bureau of Land Management proposes to issue supplementary rules for public lands managed by the BLM in Oregon and Washington, to read as follows:

Definitions

Camping: The erecting of a tent or shelter of natural or synthetic material, preparing a sleeping bag or other bedding material for use, parking of a motor vehicle, motor home or trailer, or mooring of a vessel for the apparent purpose of overnight occupancy.

Occupancy: Full or part-time residence on public lands. It also means activities that involve residence; the construction, presence, or maintenance of temporary or permanent structures that may be used for such purposes; or the use of a watchman or caretaker for the purpose of monitoring activities. Residence or structures include, but are not limited to, barriers to access, fences, tents, motor homes, trailers, cabins, houses, buildings, and storage of equipment or supplies.

Campground/Designated Recreation Area/Developed Site/Special Recreation Management Area: Sites and areas that contain structures or capital improvements primarily used by the public for recreation purposes.

Off Road Vehicle (ORV): Any motorized vehicle capable of, or designed for, travel on or immediately over land, water, or other natural terrain, excluding: (1) Any non-amphibious registered motorboat; (2) any military, fire, emergency, or law enforcement vehicle while being used for emergency purposes; (3) any vehicle whose use is expressly authorized by the authorized officer, or otherwise officially approved; (4) vehicles in official use; and (5) any combat or combat support vehicle when used in times of national defense emergencies.

Supplementary Rules for Oregon and Washington

a. Camping and Occupancy

1. You must not camp longer than 14 days in a 28 day period at any one site on public land.

2. After the 14 days have been reached, you must move at least 25 air miles away from the previously occupied site.

3. You must not leave any personal property or refuse after vacating the campsite or site.

4. You must not leave personal property unattended in a day use area, campground, designated recreation area or on public lands for more than 24 hours.

5. You must not establish occupancy, take possession of, or otherwise use public lands for residential purposes except as allowed under 43 CFR 3715.2, 3715.2-1, 3715.5, 3715.6, or with prior written authorization from the BLM.

6. You must not block, restrict, place signs, or otherwise interfere with the use of a road, trail, gate or other legal access to and through public lands without prior written authorization from the BLM.

7. You must not camp in any area posted as closed to camping. Closure must be attained through a final land use planning decision, Federal Register notification, temporary closure order, or posting or positioning of a hazardous condition notice or barrier.

8. If a campsite charges fees, you must register or pay camping fees within 30 minutes of occupying the camp site.

9. Whenever camping in a developed campground or designated recreation area with established campsites, you must camp in a designated site.

10. You must crate, cage, restrain on a leash which shall not exceed six feet in length, or otherwise physically control a pet or animal at all times while in a developed recreation site.

11. You must pick up and properly dispose of pet excrement.

b. Vehicles and ORV

1. You must not park or leave a vehicle or ORV in violation of posted instructions as established through a final land use planning decision, Federal Register notification, or other planning process.

2. You must not stop or park a vehicle or ORV in a manner that obstructs or interferes with the normal flow of traffic, or creates a hazardous condition.

3. You must not exceed posted speed limits.

4. You must possess and properly display the current Oregon ORV registration sticker as required by BLM on public land in Oregon in accordance with Oregon Revised Statutes (ORS).

5. You must not operate a motorized vehicle or ORV in violation of state laws and regulations relating to use, standards, registration, operation, and inspection.

6. You must not operate an ORV on those areas, routes, and trails closed to off-road vehicle use as established through a final land use planning decision, Federal Register notification, or other planning process.

7. You must not operate your ORV without a safety flag, where required by State law.

8. You must not operate an ORV with a muffler that exceeds legal decibel levels as required by State law.

9. You must not operate an ORV without required equipment as found in 43 CFR 8343.1 and State law.

10. You must not operate an ORV carelessly, recklessly, or without regard for the safety of any person, or in a manner that endangers, or is likely to endanger, a person or property.

11. You must not operate an ORV in a manner which damages or unreasonably disturbs the land, wildlife, improvements, property, or vegetative resources.

c. Fire

1. You must not fail to observe state fire restrictions or regulations.

2. You must not violate fire prevention orders.

3. You must not leave a campfire unattended without fully extinguishing it.

4. You must not use or possess fireworks in violation of State or Federal fire prevention order, law, or regulation.

5. You must not allow a fire to escape from your control.

6. You must not carelessly or negligently throw or place any ignited substance that may cause a fire.

7. You must not fire any tracer bullet or incendiary ammunition.

8. You must not throw any accelerant into a fire.

9. You must not build a fire outside of fire rings or other fire structures provided by BLM, where these are present and required by fire restrictions.

d. Conduct

1. You must not fail to disperse at the direction of an authorized officer.

2. You must not engage in fighting, threatening, abusive, indecent, obscene, or offensive behavior.

3. You must not make unreasonable noise based on location, time of day, proximity of neighbors, or in violation of posted regulations or direction from an authorized officer, or other factors that would govern the conduct of a reasonably prudent person.

4. You must not create or maintain a hazardous or physically offensive condition.

e. Firearms

1. You must not discharge a firearm or device that is designed for and capable of expelling a projectile by use of spring, air, gas or other explosive at any time into or from any area posted as a no-shooting or a safety zone, or into or from any developed camp or recreation site. No-shooting zones are established through a final land use planning decision, Federal Register notification, or other planning process.

2. You must not discharge or possess a firearm or explosive device in violation of State law.

f. Sanitation and Refuse

1. You must not dispose of any cans, bottles or other refuse except in designated places or receptacles.

2. You must not dump household, commercial, or industrial refuse onto public lands.

3. You must not possess glass containers where prohibited as established through a final land use planning decision, Federal Register notification, or other planning process.

4. You must not litter.

g. Other Acts

1. You must not violate state laws relating to the use, possession, or consumption of alcohol or controlled substances.

Penalties

a. On public lands in grazing districts (see 43 U.S.C. 315a) and on public lands leased for grazing under 43 U.S.C. 315m, any person who violates any of these supplementary rules may be tried before a United States Magistrate and fined no more than $500.00. Such violations may also be subject to the enhanced fines provided for by 18 U.S.C. 3571.

b. On public lands subject to a conservation and rehabilitation program implemented by the Secretary under 16 U.S.C. 670g et seq. (Sikes Act), any person who violates any of these supplementary rules may be tried before a United States Magistrate and fined no more than $500.00 or imprisoned for no more than six months, or both. 16 U.S.C. 670(a)(2). Such violations may also be subject to the enhanced fines provided for by 18 U.S.C. 3571.

c. On public lands subject to the Federal Land Policy and Management Act of 1976, 43 U.S.C. 1701 et seq. , any person who violates any of these supplementary rules may be tried before a United States Magistrate and fined no more than $1,000 or imprisoned for no more than 12 months, or both. 43 U.S.C. 1733(a); 43 CFR 8360.0-7. Such violations may also be subject to the enhanced fines provided for by 18 U.S.C. 3571.

Elaine M. Brong,
Oregon State Director, Bureau of Land Management.

[FR Doc. 05-16162 Filed 8-17-05; 8:45 am]

BILLING CODE 4310-33-P